GOVERNMENT ACCOUNTABILITY OFFICE

Advisory Council on the Standards for Internal Control in the Federal Government; Meeting

AGENCY: U.S. Government Accountability Office.

ACTION: Notice of meeting.

SUMMARY: The U.S. Government Accountability Office (GAO) is completing the revision of the Standards for Internal Control in the Federal Government “Green Book” under our authority in 31 U.S.C. 3512 (c), (d) (commonly known as the Federal Managers' Financial Integrity Act). As part of the revision process, GAO has established and is holding a meeting with the Green Book Advisory Council (GBAC) prior to the release of the revised Green Book. The Comptroller General established the GBAC to provide input and recommendations to the Comptroller General on revisions to the Green Book. The purpose of the meeting is to discuss comments GAO received on the Green Book exposure draft (FR 52532) and proposed revisions to the Green Book in response to the comments.

DATES: The meeting will be held on Wednesday, May 21, 2014, from 9:00 a.m. to 3:00 p.m.

ADDRESSES: The meeting will be held at the U.S. Government Accountability Office, 441 G St. NW., Washington, DC 20548, in the 7th floor Staats Briefing Room, Room 7C13.

FOR FURTHER INFORMATION CONTACT: For information on the Green Book Advisory Council and the Standards for Internal Control in the Federal Government, please contact Kristen Kociolek, Assistant Director, Financial Management and Assurance, telephone 202-512-2989, 441 G Street NW., Washington, DC 20548-0001.

SUPPLEMENTARY INFORMATION: Members of the public will be provided an opportunity to address the Council with a brief (five-minute) presentation in the afternoon on matters directly related to the proposed update and revision. Any interested person who plans to attend the meeting as an observer must contact Kristen Kociolek prior to Friday, May 16, 2014. A form of picture identification must be presented to the GAO Security Desk on the day of the meeting to obtain access to the GAO building. Please enter the building at the G Street entrance.

Authority: 31 U.S.C. 3512 (c), (d).

James Dalkin,
Director, Financial Management and Assurance, U.S. Government Accountability Office.

[FR Doc. 2014-07063 Filed 3-28-14; 8:45 am]

BILLING CODE 1610-02-P